DEPARTMENT OF HOUSING AND URBAN DEVELOPMENT

[Docket No. FR-4730-N-12]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Mark Johnston, room 7266, Department of Housing and Urban Development, 451 Seventh Street SW, Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Brian Rooney, Division of Property Management, Program Support Center, HHS, room 5B-41, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: AF: Ms. Barbara Jenkins, Air Force Real Estate Agency (Area-MI), Bolling Air Force Base, 112 Luke Avenue, Suite 104, Building 5683, Washington, DC 20332-8020; (202) 767-4184; DOT: Mr. Rugene Spruill, Principal, Space Management, SVC-140, Transportation Administrative Service Center, Department of Transportation, 400 7th Street, SW, Room 2310, Washington, DC 20590; (202) 366-4246; ENERGY: Mr. Tom Knox, Department of Energy, Office of Engineering & Construction Management, CR-80, Washington, DC 20585; (202) 586-8715; GSA: Mr. Brian K. Polly, Assistant Commissioner, General Services Administration, Office of Property Disposal, 18th and F Streets, NW, Washington, DC 20405; (202) 501-0052; INTERIOR: Ms. Linda Tribby, Acquisition & Property Management, Department of the Interior, 1849 C Street, NW, MS5512, Washington, DC 20240; (202) 219-0728: NAVY: Mr. Charles C. Cocks, Director, Department of the Navy, Real Estate Policy Division, Naval Facilities Engineering Command, Washington Navy Yard, 1322 Patterson Ave., SE, Suite 1000, Washington, DC 20374-5065; (202) 685-9200; (These are not toll-free numbers).

Dated: March 14, 2002.
John D. Garrity,
Director, Officer of Special Needs Assistance Programs.

Suitable/Available Properties

Buildings (by State)

Alaska

Bldg. A110

ISC Kodiak

Kodiak Co: AK 99615-

Landholding Agency: DOT

Property Number: 87200210016

Status: Excess

Comment: 1316 sq. ft., presence of asbestos/lead paint, most recent use—retail/commercial

Arkansas

Social Sec. Administration

225 Hazel Street

Hot Springs Co: Garland AR 71901-

Landholding Agency: GSA

Property Number: 54200210016

Status: Surplus

Comment: 7437 sq. ft. office building

GSA Number: 7-G-AR-0560

Blytheville Fed. Ofc. Bldg.

120 North Broadway

Blytheville Co: Mississippi AR 72316-

Landholding Agency: GSA

Property Number: 54200210017

Status: Surplus

Comment: 7921 sq. ft. office building, good condition GSA Number: 7-G-0559

California

Ingalls Hall

Army Reserve Center

2400 Fifth Street

Norco Co: Riverside CA 91760-1900

Landholding Agency: GSA

Property Number: 54200210018

Status: Surplus

Comment: 64,000 sq. ft., needs rehab, presence of asbestos/lead paint, water contains magnesium

GSA Number: 9-D-CA-1561

Eickenhorst Residence

4418 State Highway One

Stinson Beach Co: Marin CA 94970-

Landholding Agency: Interior

Property Number: 61200210018

Status: Unutilized

Comment: 935 sq. ft., needs rehab, off-site use only

Connecticut

Bldgs. 2, 108, 440

Naval Submarine Base

Groton Co: New London CT 06349-

Landholding Agency: Navy

Property Number: 77200210095

Status: Unutilized

Comment: various sq.ft., need rehab, presence of asbestos/lead paint, most recent use—office/store/club, off-site use only

Guam

Bldgs. 47, 48

Naval Forces, Marianas

Dededo Co: Barrigada GU 96540-

Landholding Agency: Navy

Property Number: 77200210096

Status: Unutilized

Comment: 144 sq. ft. each, no utilities, most recent use—storage

Bldgs. 81, 82

Naval Forces, Marianas

Dededo Co: Barrigada GU 96540-

Landholding Agency: Navy

Property Number: 77200210097

Status: Unutilized

Comment: 377 sq. ft. each, no utilities, most recent use—storage

Bldgs. 449

Naval Forces, Marianas

Dededo Co: Barrigada GU 96540-

Landholding Agency: Navy

Property Number: 77200210098

Status: Unutilized

Comment: 500 sq. ft. no utilities, most recent use—small arms

Bldgs. 732

Naval Forces, Marianas

Mariana Co: GU 96540-

Landholding Agency: Navy

Property Number: 77200210099

Status: Unutilized

Comment: 7360 sq. ft. no utilities, most recent use—warehouse

Nevada

Silver Strikes Lanes

400 Highway 6

Tonopah Co: NV 89049-

Landholding Agency: GSA

Property Number: 54200210019

Status: Excess

Comment: approx. 16,080 sq. ft. single story guutted light industrial bldg. on 8.23 acres

GSA Number: 9-I-NV-514

Sandia Duplex Housing

Victoria/Thomas Streets

Tonopah Co: NV

Landholding Agency: GSA

Property Number: 54200210020

Status: Excess

Comment: 3 duplexes, 750 sq. ft per unit w/carports

GSA Number: 9-I-NV-514

New Jersey

Sandmeier House

6 Old Mine Road

Layton Co: Sussex NJ 07851-

Landholding Agency: Interior

Property Number: 61200210019

Status: Excess

Comment: 1240 sq. ft., presence of lead paint, most recent use—residence/storage, off-site use only

Sandmeier Garage

6 Old Mine Road

Layton Co: Sussex NJ 07851-

Landholding Agency: Interior

Property Number: 61200210020

Status: Excess

Comment: 1352 sq. ft., needs rehab, presence of lead paint, most recent use—residence, off-site use only

McCullough House

2 Skyline Drive

Layton Co: Sussex NJ 07851-

Landholding Agency: Interior

Property Number: 61200210023

Status: Excess

Comment: 630 sq. ft., needs major rehab, presence of lead paint, most recent use—rsidential, off-site use only

Cedzidlo House

Old Mine Road

Montague Co: Sussex NJ 07827-

Landholding Agency: Interior

Property Number: 61200210028

Status: Excess

Comment: 1680 sq. ft., presence of lead paint, most recent use—residential, off-site use only

Camp Weygadt House

Rt. #46

Columbia Co: Warren NJ 07832-

Landholding Agency: Interior

Property Number: 61200210029

Status: Excess

Comment: 1200 sq. ft., needs rehab, presence of lead paint, most recent use—residential, off-site use only

Camp Weygadt Garage

Rt. #46

Columbia Co: Warren NJ 07832-

Landholding Agency: Interior

Property Number: 61200210030

Status: Excess

Comment: 484 sq. ft., needs repair, presence of lead paint, most recent use—storage, off-site use only

Pennsylvania

Henn House

Johnny Bee Road

Dingman's Ferry Co: Pike PA 18328-

Landholding Agency: Interior

Property Number: 61200210021

Status: Excess

Comment: 1505 sq. ft., presence of lead paint, most recent use—residential, off-site use only

Henn Garage

Johnny Bee Road

Dingman's Ferry Co: Pike PA 18328-

Landholding Agency: Interior

Property Number: 61200210022

Status: Excess

Comment: 576 sq. ft., presence of lead paint, most recent use—storage, off-site use only

Donovan House

Hidden Lake Drive

Bushkill Co: Monroe PA 18324-

Landholding Agency: Interior

Property Number: 61200210024

Status: Excess

Comment: 768 sq. ft., possible lead paint, most recent use—residential, off-site use only

Michaels House

Michaels Hill Road

Bushkill Co: Pike PA 18324-

Landholding Agency: Interior

Property Number: 61200210025

Status: Excess

Comment: 1097 sq. ft., presence of lead paint, most recent use—residential, off-site use only

Smith House

Conashaugh Rd.

Milford Co: Pike PA 18337-

Landholding Agency: Interior

Property Number: 61200210026

Status: Excess

Comment: 1770 sq. ft., presence of lead paint, most recent use—residential, off-site use only

Smith Garage

Conashaugh Rd.

Milford Co: Pike PA 18337-

Landholding Agency: Interior

Property Number: 61200210027

Status: Excess

Comment: 453 sq. ft., needs repair, presence of lead paint, most recent use—storage, off-site use only

Santucci House

Johnny Bee Road

Dingman's Ferry Co: Pike PA 18328-

Landholding Agency: Interior

Property Number: 61200210031

Status: Excess

Comment: 1604 sq. ft., needs repair, presence of lead paint, most recent use—seasonal residence, off-site use only

Santucci Garage

Johnny Bee Road

Dingman's Ferry Co: Pike PA 18328-

Landholding Agency: Interior

Property Number: 612002100312

Status: Excess

Comment: 480 sq. ft., needs major repair, presence of lead paint, most recent use—storage, off-site use only

Virginia

Federal Building

1426 N. Augusta St

Staunton Co: Augusta VA 24401-2401

Landholding Agency: GSA

Property Number: 54200210022

Status: Surplus

Comment: 4084 sq. ft. office building GSA Number: 4-G-VA-0728

Bldg. 247

Naval Station

St. Julian's Creek Annex

Norfolk Co: VA

Landholding Agency: Navy

Property Number: 77200210118

Status: Excess

Comment: 4492 sq. ft., needs major repair, possible asbestos/lead paint, most recent use—support bldg., off-site use only

Bldg. 188

Naval Station

St. Julian's Creek Annex

Norfolk Co: VA

Landholding Agency: Navy

Property Number: 77200210119

Status: Excess

Comment: 11,461 sq. ft., needs major repair, possible asbestos/lead paint, most recent use—outfitting facility, off-site use only

Bldg. 258

Naval Station

St. Julian's Creek Annex

Norfolk Co: VA

Landholding Agency: Navy

Property Number: 77200210120

Status: Excess

Comment: 432 sq. ft., needs major repair, most recent use—warehouse, off-site use only

Bldg. 278

Naval Station

St. Julian's Creek Annex

Norfolk Co: VA

Landholding Agency: Navy

Property Number: 77200210121

Status: Excess

Comment: 5820 sq. ft., needs major repair, most recent use—maintenance facility, off-site use only

Bldg. 279

Naval Station

St. Julian's Creek Annex

Norfolk Co: VA

Landholding Agency: Navy

Property Number: 77200210122

Status: Excess

Comment: 5820 sq. ft., needs major repair, most recent use—maintenance facility, off-site use only

Bldg. #11A

Naval Shipyard

Norfolk Co: VA

Landholding Agency: Navy

Property Number: 77200210123

Status: Excess

Comment: 10687 sq. ft., needs major repair, most recent use—office, off-site use only

Unsuitable Properties

Buildings (by State)

California

Bldg. 30101

Vandenberg AFB

Vandenberg Co: Santa Barbara CA 93437-

Landholding Agency: Air Force

Property Number: 18200210019

Status: Unutilized

Reason: Secured Area

Bldg. 30131, 30709

Vandenberg AFB

Vandenberg Co: Santa Barbara CA 93437-

Landholding Agency: Air Force

Property Number: 18200210020

Status: Unutilized

Reason: Secured Area

Bldg. 30137, 30701

Vandenberg AFB

Vandenberg Co: Santa Barbara CA 93437-

Landholding Agency: Air Force

Property Number: 18200210021

Status: Unutilized

Reason: Secured Area

Bldg. 30235

Vandenberg AFB

Vandenberg Co: Santa Barbara CA 93437-

Landholding Agency: Air Force

Property Number: 18200210022

Status: Unutilized

Reason: Secured Area

Bldg. 30238, 30446

Vandenberg AFB

Vandenberg Co: Santa Barbara CA 93437-

Landholding Agency: Air Force

Property Number: 18200210023

Status: Unutilized

Reason: Secured Area

Bldg. 30239, 30444

Vandenberg AFB

Vandenberg Co: Santa Barbara CA 93437-

Landholding Agency: Air Force

Property Number: 18200210024

Status: Unutilized

Reason: Secured Area

Bldg. 30306, 30335, 30782

Vandenberg AFB

Vandenberg Co: Santa Barbara CA 93437-

Landholding Agency: Air Force

Property Number: 18200210025

Status: Unutilized

Reason: Secured Area

Bldg. 30339, 30340, 30341

Vandenberg AFB

Vandenberg Co: Santa Barbara CA 93437-

Landholding Agency: Air Force

Property Number: 18200210026

Status: Unutilized

Reason: Secured Area

Bldg. 30447

Vandenberg AFB

Vandenberg Co: Santa Barbara CA 93437-

Landholding Agency: Air Force

Property Number: 18200210027

Status: Unutilized

Reason: Secured Area

Bldg. 30524

Vandenberg AFB

Vandenberg Co: Santa Barbara CA 93437-

Landholding Agency: Air Force

Property Number: 18200210028

Status: Unutilized

Reason: Secured Area

Bldg. 30647

Vandenberg AFB

Vandenberg Co: Santa Barbara CA 93437-

Landholding Agency: Air Force

Property Number: 18200210029

Status: Unutilized

Reason: Secured Area

Bldg. 30710, 30717

Vandenberg AFB

Vandenberg Co: Santa Barbara CA 93437-

Landholding Agency: Air Force

Property Number: 18200210030

Status: Unutilized

Reason: Secured Area

Bldg. 30718, 30607

Vandenberg AFB

Vandenberg Co: Santa Barbara CA 93437-

Landholding Agency: Air Force

Property Number: 18200210031

Status: Unutilized

Reason: Secured Area

Bldg. 30722, 30735

Vandenberg AFB

Vandenberg Co: Santa Barbara CA 93437-

Landholding Agency: Air Force

Property Number: 18200210032

Status: Unutilized

Reason: Secured Area

Bldg. 30775, 30777

Vandenberg AFB

Vandenberg Co: Santa Barbara CA 93437-

Landholding Agency: Air Force

Property Number: 18200210033

Status: Unutilized

Reason: Secured Area

Bldg. 30830, 30837

Vandenberg AFB

Vandenberg Co: Santa Barbara CA 93437-

Landholding Agency: Air Force

Property Number: 18200210034

Status: Unutilized

Reason: Secured Area

Bldg. 30839, 30844, 30854

Vandenberg AFB

Vandenberg Co: Santa Barbara CA 93437-

Landholding Agency: Air Force

Property Number: 18200210035

Status: Unutilized

Reason: Secured Area

Residence & Garage

904 Eighth Street

Orland Co: Glenn CA 95963-

Landholding Agency: Interior

Property Number: 61200210012

Reason: Extensive deterioration

Jones Residence

4400 State Highway One

Stinson Beach Co: Marin CA 94970-

Landholding Agency: Interior

Property Number: 61200210013

Status: Unutilized

Reason: Extensive deterioration

Conradi Residence

4060 State Highway One

Stinson Beach Co: Marin CA 94970-

Landholding Agency: Interior

Property Number: 61200210014

Status: Unutilized

Reason: Extensive deterioration

Van Houten Residence

4412 State Highway One

Stinson Beach Co: Marin CA 94970-

Landholding Agency: Interior

Property Number: 61200210015

Status: Unutilized

Reason: Extensive deterioration

Conte Residence

4406 State Highway One

Stinson Beach Co: Marin CA 94970-

Landholding Agency: Interior

Property Number: 61200210016

Status: Unutilized

Reason: Extensive deterioration

Bldg. 1255

Marine Corps Base

Camp Pendleton Co: CA 92055-

Landholding Agency: Navy

Property Number: 77200210087

Status: Excess

Reason: Extensive deterioration

Bldg. 1508

Marine Corps Base

Camp Pendleton Co: CA 92055-

Landholding Agency: Navy

Property Number: 77200210088

Status: Excess

Reason: Extensive deterioration

Bldg. 18417

Marine Corps Base

Camp Pendleton Co: CA 92055-

Landholding Agency: Navy

Property Number: 77200210089

Status: Excess

Reason: Extensive deterioration

Bldg 22159

Marine Corps Base

Camp Pendleton Co: CA 92055-

Landholding Agency: Navy

Property Number: 77200210090

Status: Excess

Reason: Extensive deterioration

Bldg. 41302

Marine Corps Base

Camp Pendleton Co: CA 92055-

Landholding Agency: Navy

Property Number: 77200210091

Status: Excess

Reason: extensive deterioration

Bldg. 52830

Marine Corps Base

Camp Pendleton Co: CA 92055-

Landholding Agency: Navy

Property Number: 77200210092

Status: Excess

Reason: Extensive deterioration

Bldg. 62551

Marine Corps Base

Camp Pendleton Co: CA 92055-

Landholding Agency: Navy

Property Number: 77200210093

Status: Excess

Reason: Extensive deterioration

Bldg. 210548

Marine Corps Base

Camp Pendleton Co: CA 92055-

Landholding Agency: Navy

Property Number: 77200210094

Status: Excess

Reason: Extensive deterioration

Florida

Bldg. 1345

Cape Canaveral AFS

Cape Canaveral Co: Brevard FL 32907-

Landholding Agency: Air Force

Property Number: 18200210016

Status: Unutilized

Reasons: Within 2000 ft. of flammable or explosive material; Secured Area

Bldg. 24451

Cape Canaveral AFS

Cape Canaveral Co: Brevard FL 32907-

Landholding Agency: Air Force

Property Number: 18200210017

Status: Unutilized

Reasons: Within 2000 ft. of flammable or explosive material; Secured Area

Bldg. 55122

Cape Canaveral AFS

Cape Canaveral Co: Brevard FL 32907-

Landholding Agency: Air Force

Property Number: 18200210018

Status: Unutilized

Reasons: Within 2000 ft. of flammable or explosive material; Secured Area

Guam

Bldg. 138

Naval Forces, Marianas

Marianas Co: GU 96540-

Landholding Agency: Navy

Property Number: 77200210100

Status: Unutilized

Reason: Secured Area

Bldg. 460

Naval Forces, Marianas

Marianas Co: GU 96540-

Landholding Agency: Navy

Property Number: 77200210101

Status: Unutilized

Reason: Secured Area

Bldg. 1741

Naval Forces, Marianas

Marianas Co: GU 96540-

Landholding Agency: Navy

Property Number: 77200210102

Status: Unutilized

Reason: Secured Area

Bldg. 1742

Naval Forces, Marianas

Marianas Co: GU 96540-

Landholding Agency: Navy

Property Number: 77200210103

Status: Underutilized

Reason: Secured Area

Bldg. 1743

Naval Forces, Marianas

Marianas Co: GU 96540-

Landholding Agency: Navy

Property Number: 77200210104

Status: Underutilized

Reason: Secured Area

Bldg. 6012

Naval Forces, Marianas

Marianas Co: GU 96540-

Landholding Agency: Navy

Property Number: 77200210105

Status: Underutilized

Reason: Secured Area

New Jersey

McCullough Garage

2 Skyline Drive

Layton Co: Sussex NJ 07851-

Landholding Agency: Interior

Property Number: 61200210017

Status: Excess

Reason: Extensive deterioration

New Mexico

5 Bldgs.

Kirtland AFB

Sandia Natl Lab

Albuquerque Co: Bernalillo NM 87185-

Location: 9927, 9970, 6730, 6731, 6555

Landholding Agency: Energy

Property Number: 41200210014

Status: Excess

Reason: Extensive deterioration

6 Bldgs.

Kirkland AFB

Sandia Natl Lab

Albuquerque Co: Bernalillo NM 87185-

Location: 6725, 841, 884, 892, 893, 9800

Landholding Agency: Energy

Property Number: 41200210015

Status: Excess

Reason: Extensive deterioration

Puerto Rico

Culebrita Island Lighthouse

Culebra Island Co: PR

Landholding Agency: GSA

Property Number: 54200210021

Status: Surplus

Reason: inaccessible

GSA Number: 1-T-PR-509

South Carolina

16 Bldgs.

Naval Weapons Station

Goose Creek Co: Berkeley SC 29445-

Location: 294, 297, 316, 319, 710, 991, 3510, 3534, 3542, 3550, 3590, 3580, 3582, 3584, 3588, 3592

Landholding Agency: Navy

Property Number: 77200210106

Status: Excess

Reasons: Within 2000 ft. of flammable or explosive material Secured Area

Virginia

Bldgs. CA61, CA62, CA69

Naval Station

Norfolk Co: VA 23511-

Landholding Agency: Navy

Property Number 77200210107

Status: Excess

Reason: Extensive deterioration

Bldgs. MC64, NH34

Naval Station

Norfolk Co: VA 23511-

Landholding Agency: Navy

Property Number: 77200210108

Status: Excess

Reason: Extensive deterioration

3 Bldgs.

Naval Station

SDA201, SDA217, SDA277

Norfolk Co: VA 23511-

Landholding Agency: Navy

Property Number: 77200210109

Status: Excess

Reason: Extensive deterioration

Bldg. 149

Naval Station

St. Julian's Creek Annex

Norfolk Co: VA

Landholding Agency: Navy

Property Number: 77200210110

Status: Excess

Reason: Extensive deterioration

Bldgs. 187, 194

Naval Station

St. Julian's Creek Annex

Norfolk Co: VA

Landholding Agency: Navy

Property Number: 77200210111

Status: Excess

Reason: Extensive deterioration

Bldg. 201

Naval Station

St. Julian's Creek Annex

Norfolk Co: VA

Landholding Agency: Navy

Property Number: 77200210112

Status: Excess

Reason: Extensive deterioration

Bldgs. 203, 212

Naval Station

St. Julian's Creek Annex

Norfolk Co: VA

Landholding Agency: Navy

Property Number: 77200210113

Status: Excess

Reason: Extensive deterioration

Bldg. 284

Naval Station

St. Julian's Creek Annex

Norfolk Co: VA

Landholding Agency: Navy

Property Number: 77200210114

Status: Excess

Reason: Extensive deterioration

Bldg. 285

Naval Station

St. Julian's Creek Annex

Norfolk Co: VA

Landholding Agency: Navy

Property Number: 77200210115

Status: Excess

Reason: Extensive deterioration

Bldg. 295

Naval Station

St. Julian's Creek Annex

Norfolk Co: VA

Landholding Agency: Navy

Property Number: 77200210116

Status: Excess

Reason: Extensive deterioration

Bldgs. 320, 329

Naval Station

St. Julian's Creek Annex

Norfolk Co: VA

Landholding Agency: Navy

Property Number: 77200210117

Status: Excess

Reason: Extensive deterioration

[FR Doc. 02-6552 Filed 3-21-02; 8:45 am]

BILLING CODE 4210-29-M